Title 3—

The President

Proclamation 10116 of November 6, 2020

National Apprenticeship Week, 2020

By the President of the United States of America

A Proclamation

Apprenticeships provide American workers tangible skills and an industry-recognized credential. They strengthen our Nation's economy and help millions of men and women provide for their families without taking on the financial burden of student loans and other related debt. During National Apprenticeship Week, we celebrate the American workers who create a brighter future for themselves and their families through apprenticeships, and we further our commitment to bolstering opportunity as we continue our economic comeback.

For decades, politicians and bureaucrats in Washington neglected workers, shipped jobs overseas, and abandoned essential manufacturing industries. When I took office, I reversed these policies and pledged to always put the American economy, labor force, and worker first. Under my leadership, we have cut taxes, removed burdensome regulations on businesses, and renegotiated our trade deals, all of which led to historic job creation and economic growth. Apprenticeships are a pillar of our effort to continue this trend, and my Administration remains committed to supporting initiatives that empower Americans and prepare our workers to compete and thrive in a 21st-century economy.

Since taking office, my Administration has worked tirelessly to empower more Americans with the benefits of apprenticeships and the skills they provide. In June of 2017, I signed an Executive Order on Expanding Apprenticeships in America. Under my leadership, the Department of Labor has awarded $80 million across 42 States and territories for occupational skills education for American students and workers, 800,000 Americans have joined apprenticeship programs, and we are well on the way to meeting my goal of 1 million new apprentices by September of next year. In Fiscal Year 2019 alone, we registered more than 250,000 new apprentices in vital industries, including advanced manufacturing, financial services, educational services, transportation, healthcare, and informational technology. My Administration also recently launched the Industry-Recognized Apprenticeship Program model, which provides opportunities for industry-led, market-driven training that expands workforce development and opens windows to well-paying jobs in high-demand industries. In recognition of our Nation's obligation to our military men and women, my Administration has also expanded the United Services Military Apprenticeship Program across all branches, providing apprenticeship opportunities to our service members while they are still on active duty to help them prepare for prosperous and fulfilling lives after their time in uniform.

My Administration will also continue to work with industry partners to provide workers with the skills they need to succeed in today's economy through the Pledge to America's Workers. This initiative recently proved essential as our Nation confronted the unprecedented challenges of the coronavirus pandemic. As part of our ongoing response, we launched the largest industrial mobilization since World War II, and thousands of new apprentices answered the call for skilled labor in key sectors like manufacturing, healthcare, cybersecurity, and information technology. These efforts demonstrate that, when government allows the free market to respond, the spirit of the American worker and the strength and resolve of America's economy will overcome any challenge.

This week, we recommit to bolstering economic opportunity through apprenticeships. I encourage individuals, business leaders, and government officials to support hardworking Americans and their families through expanding apprenticeship education and training, recognizing the essential role apprenticeships play in sustaining our national economy.

NOW, THEREFORE, I, DONALD J. TRUMP, President of the United States of America, by virtue of the authority vested in me by the Constitution and the laws of the United States, do hereby proclaim November 8 through November 14, 2020, as National Apprenticeship Week.

IN WITNESS WHEREOF, I have hereunto set my hand this sixth day of November, in the year of our Lord two thousand twenty, and of the Independence of the United States of America the two hundred and forty-fifth.

[FR Doc. 2020-25191

Filed 11-10-20; 11:15 am]

Billing code 3295-F1-P